DEPARTMENT OF COMMERCE

International Trade Administration

[A-583-008]

Certain Circular Welded Carbon Steel Pipes and Tubes From Taiwan; Amended Final Results of Antidumping Duty Administrative Review

AGENCY: Import Administration, International Trade Administration, Department of Commerce.

ACTION: Notice of amended final results of antidumping duty administrative review.

SUMMARY: On December 13, 1999, the Department of Commerce (the Department) published the final results of review of the antidumping duty order on certain circular welded carbon steel pipes and tubes from Taiwan (64 FR 69488). These amended final results cover the period August 1, 1987 through July 31, 1998, and four manufacturers, Yieh Hsing Enterprise Co. Ltd. (Yieh Hsing) and Kao Hsing Chang Iron & Steel Corporation (KHC), Yun Din Steel Co. Ltd. (Yun Din), and Yieh Loong Co. (Yieh Loong).

On December 15, 1999, pursuant to section 351.224 of the Departments's regulations, Yieh Hsing filed an allegation of ministerial errors in the calculation of its final margin. On January 10, 2000, the petitioners filed an allegation of ministerial errors in the calculation of the final margin for KHC. The Department is publishing these amended final results to correct the ministerial errors identified by Yieh Hsing, and one of those alleged by petitioners.

EFFECTIVE DATE: February 3, 2000.

FOR FURTHER INFORMATION CONTACT: Thomas Killiam or Robert James, Import Administration, International Trade Administration, U.S. Department of Commerce, 14th Street and Constitution Avenue, N.W., Washington, D.C. 20230; telephone (202) 482-3019 or 482-0649, respectively.

APPLICABLE STATUTE: Unless otherwise indicated, all citations to the Tariff Act of 1930, as amended (the Act) are references to the provisions effective January 1, 1995, the effective date of the amendments made to the Act by the Uruguay Round Agreements Act (URAA). In addition, unless otherwise indicated, all citations to the Department's regulations are to the regulations, codified at 19 C.F.R. Part 351 (1999).

MINISTERIAL ERRORS IN THE FINAL RESULTS OF REVIEW: In its December 15, 1999 letter, Yieh Hsing alleges that the Department intended to compare U.S. sales to home market sales that occurred in the same month as, in the three months prior to, or in the two months following, the U.S. sale. Yieh Hsing further notes that where comparisons to sales of identical merchandise were not available, the Department intended to make comparisons to sales of the most physically similar home market merchandise.

Yieh Hsing contends that the final results computer program failed to successfully search for sales in months other than the month of the U.S. sale, and failed to search for home market sales of non-identical merchandise. We examined the computer program and agree with Yieh Hsing that these programming failures occurred and that they constitute clerical error within the meaning of 19 CFR 351.244(f). Therefore, for these amended final results, we have corrected the computer program, and have used all contemporaneous sales of identical or similar merchandise in our calculation of normal value.

Petitioners argue that in its calculation of the final margin for KHC, the Department incorrectly performed a foreign exchange conversion on an international freight expense, which had already been reported in U.S. dollars. We reviewed the data and agree that we intended to deduct the expense in question from the price without converting the currency, and for these amended final results, we have removed the incorrect conversion step.

Petitioners also allege that the Department's analysis program failed to effect comparisons of U.S. sales to home market sales with a “CNS” grade designation. We disagree that this model-matching methodology is a ministerial error. The Department intended to exclude CNS grades and to compare the U.S. merchandise to other, more similar home market models. See model match program at lines 911-918 (included in petitioners' January 10, 2000 allegation at Exhibit 6). Accordingly, we have not changed the product comparison methodology for these final results.

Non-Responding Companies

As stated in prior notices concerning this review, Yun Din and Yieh Loong did not respond to our requests for information and were assigned, as facts available, the highest rate in any segment of this proceeding; that rate changed as a result of these amended final results.

Amended Final Results of Review

As a result of the correction of the ministerial errors discussed above, the margins are:

Manufacturer/exporter | Period | Margin (%)
Yieh Hsing | 5/1/97-4/30/98 | 1.35
KHC | 5/1/97-4/30/98 | 24.80
Yun Din Steel Co. Ltd. | 5/1/97-4/30/98 | 24.80
Yieh Loong Co. | 5/1/97-4/30/98 | 24.80

The Department shall determine, and the Customs Service shall assess, antidumping duties on all appropriate entries. We also will direct Customs Service to collect cash deposits of estimated antidumping duties on all appropriate entries in accordance with the procedures discussed in the final results of review and as amended by this determination. The amended deposit requirements are effective for all shipments of the subject merchandise entered, or withdrawn from warehouse, for consumption on or after the date of publication of this notice and shall remain in effect until publication of the final results of the next administrative review.

We are issuing and publishing this determination and notice in accordance with sections 751(h) and 777(i)(1) of the Act, and 19 CFR 351.224(e).

Dated: January 19, 2000.
Robert S. LaRussa,
Assistant Secretary for Import Administration.

[FR Doc. 00-2292 Filed 2-2-00; 8:45 am]

BILLING CODE 3510-DS-P